DEPARTMENT OF LABOR

Mine Safety and Health Administration

Proposed Information Collection Request Submitted for Public Comment and Recommendations; Ventilation Plans, Tests, and Examinations in Underground Coal Mines

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before November 20, 2000.

ADDRESSES: Send comments to Brenda C. Teaster, Acting Chief, Records Management Division, 4015 Wilson Boulevard, Room 709A, 4015, Arlington, VA 22203-1984. Commenters are encouraged to send their comments on a computer disk, or via Internet E-mail to bteaster@msha.gov, along with an original printed copy.

Ms. Teaster can be reached at (703) 235-1470 (voice), or (703) 235-1563 (facsimile).

FOR FURTHER INFORMATION CONTACT: Brenda C. Teaster, Chief, Records Management Division, U.S. Department of Labor, Mine Safety and Health Administration, Room 709A, 4015 Wilson Boulevard, Arlington, VA 22203-1984.

Ms. Teaster can be reached at bteaster@msha.gov (Internet E-mail), (703) 235-1470 (voice), or (703) 235-1563 (facsimile).

SUPPLEMENTARY INFORMATION:

I. Background

Effective underground coal mine ventilation is necessary to protect against mine fires and explosions. Fresh air is coursed throughout the mine ventilation system to prevent asphyxiation of the miners from methane, carbon dioxide, carbon monoxide, and other gases commonly encountered in coal mines. Ventilation is the primary method of controlling miners' exposure to respirable dust and preventing the development of pneumoconiosis (black lung disease). In enacting Section 303(a) of the Mine Act, Congress expressly recognized these and related dangers associated with inadequate ventilation.

II. Desired Focus of Comments

Currently, the Mine Safety and Health Administration (MSHA) is soliciting comments concerning the proposed extension of the information collection related to the Ventilation Plans, Tests, and Examinations in Underground Coal Mines, pending approval of the proposed rule on Plan Verification. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act Submissions (http://www.msha.gov/regspwork.htm)”, or by contacting the employee listed above in the FOR FURTHER INFORMATION CONTACT section of this notice for a hard copy.

III. Current Actions

Underground coal mines are harsh, hostile, and deadly working environments. The ventilation system is one of the most vital life support systems in underground mining. An effective ventilation system is essential for maintaining a safe and healthful working environment. Ventilation related problems in underground coal mines have resulted in thousands of fatalities from explosions, fires and asphyxiation. In addition, the debilitating occupational lung diseases, black lung and silicosis, are controlled by ventilation practices.

An underground mine is a maze of tunnels that must be adequately ventilated with fresh air to provide a safe environment for miners. Methane, a colorless, odorless explosive gas, is liberated from the coal strata. Other noxious gases and dusts from mining and blasting may be present. These explosive and noxious gases and dusts must be diluted, rendered harmless, and carried out of the mine by the ventilating currents. Sufficient air must be provided to maintain the air quality and dust concentrations in accordance with MSHA standards. Mechanical ventilation equipment of sufficient capacity must operate at all times while miners are in the mine. The mining environment is constantly changing as new openings are excavated, roof falls close entries, water collects and restricts openings, etc. Due to this constantly changing environment, frequent tests and examinations are necessary to ensure the integrity of the ventilation system and to detect any changes that may require adjustments in the system. Records of tests and examinations are necessary to ensure that the ventilation system is being maintained and that changes which could adversely affect the integrity of the system or the safety of the miners are not occurring. These examination requirements of 75.360 through 75.364 also incorporate examinations of other critical aspects of the underground work environment such as roof conditions and electrical equipment which have historically caused numerous fatalities.

Type of Review: Extension.

Agency: Mine Safety and Health Administration.

Title: Ventilation Plans, Tests, and Examinations in Underground Coal Mines.

OMB Number: 1219-0088.

Recordkeeping: 1 Year.

Affected Public: Business or other for-profit.

Frequency: Quarterly/on occasion.

Affected Public: Business or other for-profit.

Cite/reference | Total respondents | Frequency | Total responses | Average time per response | Burden
75.310 | 980 | weekly | 65,612 | 7 minutes | 7,523
75.312 | 980 | daily | 1,293 | .013 minutes | 99,739
75.312(c)(d) | 980 | monthly | 23,520 | 5 minutes | 3,920
75.312(g) | 620 | on occasion | 7,440 | 5 minutes | 620
75.312(g)(2)(ii) | 23 | on occasion | 276 | 10 minutes | 46
75.342 | 980 | monthly | 39,372 | .267 minutes | 10,515
75.351(h) | 60 | monthly | 1,560 | 3.836 | 5,984
75.360 | 980 | on occasion | 1,103,640 | 1.33256 hrs | 1,470,667
75.361 | 980 | on occasion | 15,000 | 30 minutes | 7,500
75.362 | 980 | on occasion | 864,535 | .7434 minutes | 642,744
75.363 | 980 | on occasion | 76,700 | .1333 minutes | 10,224
75.364 | 980 | on occasion | 44,740 | 9.1837 hours | 410,878
75.370 | 980 | on occasion | 3,878 | 10 hours | 38,226
75.382 | 300 | weekly | 15,000 | 1 hour | 15,000
Totals |  |  | 2,262,566 | 1.20376 hours | 2,723,586
* Discrepancies due to rounding.

Total Burden Cost (capital/startup): 0.

Total Burden Cost (operating/maintaining): $194,256.

Total Annualized Capital/Startup Costs:

Total Operating and Maintenance Costs: $171,574.

Comments submitted in response to this notice will be summarized and/or included in the request for Office of Management and Budget approval of the information collection request; they will also become a matter of public record.

Dated: September 13, 2000.
Brenda C. Teaster,
Acting Chief, Records Management Division.

[FR Doc. 00-24009 Filed 9-18-00; 8:45 am]

BILLING CODE 4510-43-M